DEPARTMENT OF ENERGY

Federal Energy Regulatory Commission

[Project No. 5679-041]

Energy Stream, LLC; Notice of Reasonable Period of Time for Water Quality Certification Application

On January 24, 2024, the Connecticut Department of Energy and Environmental Protection (Connecticut DEEP) submitted to the Federal Energy Regulatory Commission (Commission) notice that it received a complete request for a Clean Water Act section 401(a)(1) water quality certification from Energy Stream, LLC, in conjunction with the above captioned project on January 11, 2024. Pursuant to section 4.34(b)(5) of the Commission's regulations,¹ we hereby notify Connecticut DEEP of the following:

¹ 18 CFR 4.34(b)(5).

Date of Receipt of the Certification Request: January 11, 2024.

Reasonable Period of Time to Act on the Certification Request: One year, January 11, 2025.

If Connecticut DEEP fails or refuses to act on the water quality certification request on or before the above date, then the certifying authority is deemed waived pursuant to section 401(a)(1) of the Clean Water Act, 33 U.S.C. 1341(a)(1).

Dated: January 30, 2024.
Debbie-Anne A. Reese,
Acting Secretary.

[FR Doc. 2024-02191 Filed 2-2-24; 8:45 am]

BILLING CODE 6717-01-P